DEPARTMENT OF COMMERCE

International Trade Administration

[A-570-133]

Certain Metal Lockers and Parts Thereof From the People's Republic of China: Postponement of Preliminary Determination in the Less-Than-Fair-Value Investigation

AGENCY: Enforcement and Compliance, International Trade Administration, Department of Commerce.

DATES: Applicable December 1, 2020.

FOR FURTHER INFORMATION CONTACT: Laurel LaCivita or Patrick Barton, AD/CVD Operations, Office III, Enforcement and Compliance, International Trade Administration, U.S. Department of Commerce, 1401 Constitution Avenue NW, Washington, DC 20230; telephone: (202) 482-4243 or (202) 482-0012, respectively.

SUPPLEMENTARY INFORMATION:

Background

On July 29, 2020, the Department of Commerce (Commerce) initiated a less-than-fair-value (LTFV) investigation of imports of certain metal lockers and parts thereof (metal lockers) from the People's Republic of China (China).¹ Currently, the preliminary determination is due no later than December 16, 2020.

¹ See Certain Metal Lockers and Parts Thereof from the People's Republic of China: Initiation of Less-Than-Fair-Value Investigation, 85 FR 47343 (August 5, 2020).

Postponement of Preliminary Determination

Section 733(b)(1)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) The petitioner makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

On November 20, 2020, the petitioners ² submitted a timely request that Commerce postpone the preliminary determination in the LTFV investigation.³ The petitioners state that a postponement is necessary to provide Commerce with adequate time to collect and analyze questionnaire responses from Zhejiang Xingyi Metal Products Co., Ltd. (Zhejiang Xingyi) and Hangzhou Xline Machinery & Equipment Co., Ltd. (Hangzhou Xline), review data to identify deficiencies, and to fully investigate the extent to which Zhejiang Xingyi and Hangzhou Xline have engaged in less-than-fair-value sales of the subject merchandise based on a comprehensive preliminary record.⁴

² The petitioners are List Industries, Inc.; Penco Products, Inc.; DeBourgh Manufacturing Co.; and Tennsco LLC (collectively, the petitioners).

³ See Petitioners' Letter, “Certain Metal Lockers and Parts Thereof from the People's Republic of China—Petitioners' Request to Postpone Preliminary Determination,” dated November 20, 2020.

⁴ Id. at 2.

For the reasons stated above and because there are no compelling reasons to deny the request, Commerce, in accordance with section 733(c)(1)(A) of the Act, is postponing the deadline for the preliminary determination by 50 days (i.e., 190 days after the date on which this investigation was initiated). As a result, Commerce will issue its preliminary determination no later than February 4, 2020. In accordance with section 735(a)(1) of the Act and 19 CFR 351.210(b)(1), the deadline for the final determination of this investigation will continue to be 75 days after the date of the preliminary determination, unless postponed at a later date.

This notice is issued and published pursuant to section 733(c)(2) of the Act and 19 CFR 351.205(f)(1).

Dated: November 24, 2020.
Jeffrey I. Kessler,
Assistant Secretary for Enforcement and Compliance.

[FR Doc. 2020-26488 Filed 11-30-20; 8:45 am]

BILLING CODE 3510-DS-P